DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Wabtec Corporation

[Waiver Petition Docket Number FRA-2004-18895]

The Wabtec Corporation (Wabtec) seeks a waiver of compliance from certain provisions of 49 CFR Part 232, Brake System Safety Standards for Freight and Other Non-Passenger Trains and Equipment. Specifically, § 232.409(d)—Inspection and Testing of end-of-train devices, which requires the telemetry equipment to be tested for accuracy and calibrated if necessary at least every 368 days. It also requires that the date and location of the last calibration or test as well as the name of the person performing the calibration or test, be legibly displayed on a weather-resistant sticker or other marking device affixed to the outside of both the front and the rear unit.

This waiver will cover all Wabtec TrainLink II Head of Train (HTD's) and End of Train devices (EOT's) that were produced since March 4, 2002, and all existing TrainLink units that are upgraded with the new WRE digitally synthesized radio. If the waiver is approved, Wabtec and associated service centers will attach a sticker on all new and upgraded units identifying they are equipped with the new WRE digital radio and are covered by the waiver. Wabtec has concluded that with the advanced technology, there is no need to annually test and calibrate units built or upgraded with the new synthesized radio.

Previous generation radio designs used manual tuning coils and potentiometers that were subject to drift due to vibration and temperature shifts. These older designs required manual adjustments to assure that the radio was operating on the proper frequencies. The new WRE TrainLink II synthesized digital radio provides a continuous, fully automatic self-calibrating feature, along with advanced diagnostics to assure accuracy and dependability in radio transmission. As a result, there is no manual calibration or adjustment in this new radio design. The transceiver is designed specifically for the harsh railroad environment and incorporates phase lock loop circuitry, along with temperature and voltage controlled crystal oscillators to maintain spectral (signal) purity. This automatic algorithm works by optimizing the VCO control parameters to achieve minimum phase noise. It automatically calibrates the power amplifier (PA) and power amplifier driver (RF) bias current every time the transmitter is powered. This automatic calibration feature is the heart of maintaining the radio's performance integrity. Should the radio experience a component failure, the auto-cal routine will cycle continuously, effectively shut down the radio, and provide the appropriate “No Comm” display in the cab of the locomotive. Failure in the micro/power supply areas will also result in an inoperable radio, and the same “No Comm” message will be received in the locomotive cab.

Wabtec also concludes that since the synthesized radio requires no manual adjustments, and if the waiver is approved no annual testing will be required, there is no need for the record keeping requirements (i.e. Sticker with date location, and name of person performing the test).

Wabtec has been producing the synthesized digital radio for over 2 years. Currently, there are over 25,000 TrainLink II systems in operation worldwide, including approximately 20,000 on U.S. railroads. Wabtec states that these units have provided reliable service since their introduction.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2004-18895) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on September 7, 2004.
Grady C. Cothen, Jr.,
Acting Associate Administrator for Safety.

[FR Doc. 04-20718 Filed 9-14-04; 8:45 am]

BILLING CODE 4910-06-P